DEPARTMENT OF AGRICULTURE

Natural Resources Conservation Service

Indian Creek Watershed Supplemental Watershed Plan & Environmental Assessment Number 1 Pottawattamie County, IA.

AGENCY: Natural Resources Conservation Service (NRCS), USDA.

ACTION: Notice of Finding of No Significant Impact.

SUMMARY: Pursuant to Section 102(2)(c)of the National Environmental Policy Act of 1969; the Council on Environmental Quality Regulations (40 CFR part 1500); and the Natural Resources Conservation Service Regulations (7 CFR part 650); the Natural Resources Conservation Service, U.S. Department of Agriculture, gives notice that an environmental impact statement is not being prepared for the Indian Creek Watershed Supplemental Watershed Plan and Environmental Assessment Number 1, Pottawattamie County, Iowa.

FOR FURTHER INFORMATION CONTACT: Richard Van Klaveren, State Conservationist, Natural Resources Conservation Service, 210 Walnut Street, 693 Federal Building, Des Moines, IA 50309-2180.

SUPPLEMENTARY INFORMATION: The environmental assessment of this federally assisted action indicates that the project will not cause significant impacts on the environment. As a result of these findings, Richard Van Klaveren, State Conservationist, has determined that the preparation and review of an environmental impact statement are not needed for this project.

The purpose of the project is to provide continued gully stabilization and sediment control while improving public safety. The rehabilitation of Site 2 of the Indian Creek Watershed project is necessary because seven houses occupied by approximately 25 people are in the breach inundation area of the dam. One business is also located in the breach area. Site 2 has been reclassified as high hazard by NRCS and the State of Iowa because of the potential loss of life should the dam fail.

The plan consists of rehabilitating the Site 2 dam to high hazard criteria for a new 50-year life. The top of the dam will be raised three feet, the principal spillway elevation will remain at the same elevation to maintain the current water level, and a new vegetated spillway will be added to the existing dam.

The Notice of a Finding of No Significant Impact (FONSI) has been forwarded to the Environmental Protection Agency and to various Federal, State, and local agencies. A limited number of copies of the FONSI are available to fill single copy requests at the above address. The FONSI is also available at the Iowa NRCS Web site at http://www.ia.nrcs.usda.gov. A copy of the Supplemental Watershed Plan-Environmental Assessment may be obtained by contacting Richard Van Klaveren.

No administrative action will be taken until 30 days after the date of this publication in the Federal Register.

Dated: July 29, 2005.
Richard Van Klaveren,
State Conservationist.

Introduction

The supplemental watershed plan and environmental assessment describes the recommended alternative and other alternatives to prevent the loss of life from a catastrophic failure of Site 2 of the Indian Creek watershed project. Rehabilitating Site 2 provides continued grade stabilization and sediment control.

This project is necessary because seven houses occupied by about 25 people and one business are in the breach inundation area of the dam. Site 2 has been reclassified as high hazard by NRCS and the State of Iowa because of the possibility of loss of life should the dam fail.

The dam was installed to control severe gully erosion and reduce sedimentation. The drainage area of Site 2 is 687 acres.

The Indian Creek Watershed project was authorized in 1961 under the authority of the Watershed Protection and Flood Prevention Act of 1954 (Pub. L. No. 566, 83rd Congress.) The Site 2 dam was installed in 1975 as a component of the Indian Creek Watershed project.

This rehabilitation action is being planned and will be implemented under the Watershed Protection and Flood Prevention Act of 1954 as amended by PL 106-472 the Small Watershed Rehabilitation Amendments of 2000 (16 U.S.C. 1001 et seq.). It is being planned and is in compliance with all National Environmental Policy Act (NEPA) and the National Historic Preservation Act of 1966 as amended (NHPA) provisions.

An environmental evaluation was undertaken by the Natural Resources Conservation Service (NRCS) in conjunction with the development of this rehabilitation plan. This evaluation was undertaken in conjunction with local, state and federal agencies as well as interested organizations and individuals. Data developed during this evaluation and copies of the rehabilitation plan are available for public review at the following location: Natural Resources Conservation Service, 210 Walnut Street, 693 Federal Building, Des Moines, IA 50309-2180.

Recommended Action

The top of the dam will be raised about three feet to elevation 1161. The principal spillway crest will remain at the same elevation, so no additional land will be permanently inundated by the rehabilitated dam. A new vegetated spillway will be added to the existing dam. This compacted earthfill auxiliary spillway will be 80 feet wide with a crest elevation of 1155. The private access road on top of the dam that currently provides access to multiple properties will be rebuilt.

The county will enforce the current state law that prohibits development of the upstream area below the top of dam. If the area is annexed by the city of Council Bluffs, the West Pottawattamie SWCD will assure continued restrictions.

Effects of the Recommended Actions

• Wetlands: No impact on existing artificial wetland areas.

• Prime Farmland: The selected plan results in the potential for infrequent short term flooding of 18.2 acres of prime farmland in the flood pool, an increase of 13.0 acres.

• Threatened and Endangered Species: There are no identified Threatened and Endangered species present at the site; therefore no impact to any Threatened and Endangered species is anticipated.

• Cultural Resources: The plan does not have the potential to affect historic properties.

• Natural/Unique Areas: The plan results in gully erosion control being maintained in this portion of the Loess Hills. Sheet and rill erosion and ephemeral cropland gully erosion control will be maintained to protect the soil resources on 660 acres of the Loess Hills.

• Safety/Social: Reduces the breach flood threat to seven houses occupied by 25 people and one business. The breach flood threat to 370 Mudhollow Road motorists per day and several public utility service lines is greatly reduced but not eliminated. Emergency services to dozens of neighborhood residents will be less threatened by a sudden dam failure.

• Water Quality: Sediment and attached nutrients will continue to be trapped and stored in the flood pool.

• Real Estate Property Values: Property values in and near the breach inundation area are protected by eliminating the breach hazard. Property values adjacent to and near the pool are maintained by keeping the pool level at its current elevation.

• Stormwater Flooding: Release rates do not change and flooding on Indian Creek does not change.

• Soil Erosion: Gully erosion remains controlled. Both sheet and rill erosion and ephemeral cropland gully erosion are controlled

• Wildlife Habitat: There is potential for infrequent short term flooding of up to 21 acres in the flood pool, an increase of 15 acres. Consultation with the USFWS and IDNR indicate that these impacts to wildlife resources in the watershed are minor and no formal mitigation is necessary.

• Air Quality: Construction will result in temporary generation of dust and emissions from internal combustion engines.

• No other significant adverse environmental impacts will occur from installation of project features.

• There are no existing or anticipated public controversies associated with this proposed action.

• Cumulative impacts: Effects of public programs and individual actions that protect or enhance soil, water and related resources are maintained.

Alternative Actions

Other alternative actions were considered in the planning process but were rejected. The recommended plan is the most acceptable to local residents and local project sponsors. The recommended plan eliminates threats to loss of life from catastrophic breaches and storm events. The original project purposes of gully stabilization and sediment control are maintained. The recommended plan is the National Economic Development (NED) plan.

Consultation and Public Participation

The West Pottawattamie County SWCD and the Pottawattamie County Board of Supervisors held discussions at regular meetings in 2003 regarding the need for rehabilitating Indian Creek Site 2. A meeting to present the initial results of the NRCS assessment and preliminary rehabilitation ideas was held on August 6, 2003. The meeting was attended by representatives of the SWCD, County Board of Supervisors, City of Council Bluffs, and the Council Bluffs Chamber of Commerce.

The NRCS planning staff met with the County Board of Supervisors at their regular meeting on August 20, 2003. As a result of this meeting, sponsors firmly supported proceeding with the development of a plan to rehabilitate Site 2.

A public meeting conducted jointly by sponsors and the NRCS was held in Council Bluffs the evening of September 17, 2003. Preliminary alternatives were presented and public input was requested. Forty-five local residents attended the meeting. Most of the attendees live near the Site 2 pool and along Mudhollow Road. Following the presentation, many questions and much discussion occurred about the breach inundation area, property values, and preliminary alternatives.

Forty letters of invitation were sent to representatives of state and federal agencies, conservation groups, agricultural groups, and others for a “scoping meeting” on September 18, 2003. No representatives of the target audience attended except for two representatives of the sponsors who attended the public meeting the night before and earlier meetings. The two declined the opportunity for further discussions.

The tri-agency biology review for Site 2 was initiated by a field review on September 30, 2003. The Iowa DNR, U.S. Fish and Wildlife Service, consulted with NRCS on the likely impacts of the project on wildlife habitat, wetlands, and T&E species.

Eight Indian tribal contacts and the local county historical society were notified of this intended action in accordance with 36CFR800. They were consulted about their knowledge of historical properties in the project area. No response was received from the tribal contacts. The local historical society responded that they knew of no historic properties in the project area.

NRCS planning staff members met with sponsors at a Pottawattamie County Board of Supervisors meeting on May 12, 2004. The staff presented initial study results of the alternatives. The sponsors requested further study of outflow rates from Site 2 for various storm events. They also requested discontinuing study of an alternative that would reduce the pool size by over 50 percent. Reducing the pool size was not acceptable to the sponsors or the local residents of the watershed. The NRCS agreed to follow up on these requests and meet again with the sponsors.

The follow up meeting was held on August 11, 2004. Sponsors received updates from NRCS planning staff studies. The sponsors agreed they would select an alternative and respond to NRCS by September 1, 2004. The sponsors agreed to coordinate a public information meeting in the early fall.

The sponsors selected Alternative F on August 25, 2004. They asked NRCS to proceed with plan development following a public information meeting in October 2004.

A public informational meeting was held in Council Bluffs on October 20, 2004. The alternative plans, their effects, and their costs were presented by NRCS to the 26 local people present. Most of the attendees live in proximity to Site 2. Representatives of the sponsors publicly endorsed Alternative F as their selection. Members of the public present supported the plan and did not present any new information to consider in plan development. No public controversy was evident.

Conclusion

The Environmental Assessment summarized above indicates that this Federal action will not cause significant impacts on the environment. Therefore, based on the above findings, I have determined that an environmental impact statement for the Indian Creek Watershed Draft Supplemental Watershed Plan and Environmental Assessment Number 1 is not required.

Dated: July 29, 2005.
Richard Van Klaveren,
State Conservationist.

[FR Doc. 05-15635 Filed 8-5-05; 8:45 am]

BILLING CODE 3410-16-P